DEPARTMENT OF VETERANS AFFAIRS

Advisory Committee on Women Veterans, Notice of Meeting

The Department of Veterans Affairs (VA) gives notice under the Federal Advisory Committee Act that the Advisory Committee on Women Veterans (Committee) will conduct a site visit on September 18-22, 2016, in Muskogee, OK. Sessions are open to the public, except when the Committee is conducting tours of VA facilities, participating in off-site events, and participating in workgroup sessions. Tours of VA facilities are closed, to protect Veterans' privacy and personal information. The site visit will also include a town hall meeting for women Veterans and those who provide services to women Veterans.

The purpose of the Committee is to advise the Secretary of Veterans Affairs regarding the needs of women Veterans with respect to health care, rehabilitation, compensation, outreach, and other programs and activities administered by VA designed to meet such needs. The Committee makes recommendations to the Secretary regarding such programs and activities.

On Monday September 18, the Committee will convene an open session at the Jack C. Montgomery VA Medical Center, 1011 Honor Heights Drive, Muskogee, OK 74401, in Downing Room, Room 2B-54, from 9:00 a.m. to 4:00 p.m. The agenda will include overview briefings from the Jack C. Montgomery VA Medical Center leadership on the facilities, programs, demographics, women Veterans programs, and other services available for Veterans in Muskogee.

On the morning of Tuesday, September 19, the Committee will convene an open session at the Jack C. Montgomery VA Medical Center, 1011 Honor Heights Drive, Muskogee, OK 74401, in Downing Room, Room 2B-54, from 9:00 a.m. to 12:00 p.m. The agenda will include a continuation of briefings from the Jack C. Montgomery VA Medical Center leadership on the facilities, programs, demographics, women Veterans programs, and other services available for Veterans in Muskogee. In the afternoon, from 1:00 p.m. to 4:00 p.m., the Committee will reconvene a closed session, as it tours the Jack C. Montgomery VA Medical Center, 1011 Honor Heights Drive, Muskogee, OK 74401.

On Wednesday, September 20, the Committee will convene closed sessions, as it tours the Fort Gibson National Cemetery (1423 Cemetery Road, Fort Gibson, OK 74434) and the Muskogee Regional Benefit Office (125 South Main Street, Muskogee, OK 74401).

On Thursday, September 21, the Committee will convene a closed session, as it tours the Ernest Childers VA Outpatient Clinic, 9322 E. 41st Street, Tulsa, OK 74145. Additionally, the Committee will convene a closed session, as it tours the Tulsa Vet Center, 14002 E. 21st Street, Tulsa, OK 74134.

On the morning of Friday, September 22, the Committee will convene an open session at the Muskogee Civic Center, 425 Boston St, Muskogee, OK 74401, as it conducts an out-briefing with Jack C. Montgomery VA Medical Center/Muskogee Regional Benefit Office/Fort Gibson National Cemetery leadership, from 8:30 a.m. to 9:30 a.m. The Committee will have an open session, as it conducts a town hall meeting with the women Veterans and other stakeholders. The town hall meeting will begin at 10:00 a.m. and end promptly at noon.

With the exception of the town hall meeting, there will be no time for public comment during the meeting. Members of the public may submit written statements for the Committee's review to 00W@mail.va.gov, or by fax at (202) 273-7092. Any member of the public wishing to attend or seeking additional information should contact Shannon L. Middleton at (202) 461-6193.

Dated: August 29, 2017.
Jelessa M. Burney,
Federal Advisory Committee Management Officer.

[FR Doc. 2017-18573 Filed 8-31-17; 8:45 am]

BILLING CODE P